DEPARTMENT OF TRANSPORTATION

Federal Aviation Administration

14 CFR Part 71

[Docket No. FAA-2025-0769; Airspace Docket No. 25-ASO-5]

RIN 2120-AA66

Amendment of Class D and Class E2, Amendment of Class E4, and Amendment of Class E5 Airspace Over New Bern, NC

AGENCY: Federal Aviation Administration (FAA), DOT.

ACTION: Final rule.

SUMMARY: This action amends Class D and Class E airspace at Coastal Carolina Regional Airport, New Bern, NC, due to the current designated airspace not properly containing instrument flight rule operations. Additionally, this action amends Class E4 airspace at Coastal Carolina Regional Airport, New Bern, NC, due to portions no longer meeting the requirements of its designation. Lastly, this action amends the Class E5 airspace that no longer meets the requirements for its specific designation due to the amendment or cancellation of Standard Instrument Approach Procedures. Controlled airspace is necessary for the safety and management of IFR operations in the area for existing instrument approaches.

DATES: Effective 0901 UTC, October 2, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days each year. An electronic copy of this document may also be downloaded from the Office of the Federal Register's website at www.federalregister.gov.

FAA Order JO 7400.11J, Airspace Designations, and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Christopher Stocking, Operations Support Group, Eastern Service Center, Federal Aviation Administration, 1701 Columbia Avenue, College Park, GA 30337; Telephone: (404) 305-5887.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends Class D, E2, E4, and E5 airspace in New Bern, NC.

History

The FAA published a notice of proposed rulemaking for Docket No. FAA 2025-0769 in the Federal Register (90 FR 18826; May 2, 2025), proposing to amend Class D, E2, E4, and E5 airspace at Coastal Carolina Regional Airport, New Bern, NC. Interested parties were invited to participate in this rulemaking effort by submitting written comments on the proposal to the FAA. One comment was received, stating that the coordinates for CarolinaEast Medical Center Heliport had an error. See “Differences from the NPRM” for corrective action taken in response.

Differences From the NPRM

An editorial change was made to correct the spelling of CarolinaEast Medical Center Heliport removing the space between Carolina and East in the NPRM. Additionally, the coordinates for CarolinaEast Medical Center Heliport were published in the NPRM incorrectly. The latitude for CarolinaEast Medical Center Heliport should not be (“W”); it should be an (“N”) and has been corrected in this final rule. As this constitutes a ministerial change that does not alter legal obligations associated with the airspace, the FAA has determined that good cause exists for not re-circulating the NPRM for public notice and comment.

Incorporation by Reference

Class D and E airspace designations are published in paragraphs 5000, 6002, 6004, and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 to amend Class D, E2, E4, and E5 airspace for Coastal Carolina Regional Airport, New Bern, NC.

This action amends both the Class D and Class E2 airspace extending upward from the surface to and including 2,500 feet MSL for Coastal Carolina Regional Airport, New Bern, NC, by increasing it to a 4.3-mile radius as the current radius of 4.0-miles does not properly contain instrument flight rules operations. These airspace areas encompass the same airspace but are separately activated by NOTAM.

Additionally, this action amends the Class E4 airspace by removing that airspace that extends upward from the surface within 2.4 miles each side of the New Bern VOR/DME 210° radial, extending from the 4-mile radius to 7 miles southwest of the VOR/DME. The Class E4 airspace will also be amended from the surface within 2.4 miles each side of the New Bern VOR/DME 038° radial, by extending from the 4.3-mile radius to 7 miles northeast of the New Bern VOR/DME.

Lastly, this action amends Class E5 airspace extending from 700 feet above the surface upward and within 2 miles each side of the New Bern VOR/DME 210° radial, extending from the 7-mile radius of the New Bern VOR/DME to the 10-mile radius of the New Bern VOR/DME for Coastal Carolina Regional Airport, New Bern, NC. This reconfiguration will properly contain the currently published standard instrument approach procedures. Controlled airspace is necessary for the safety and management of IFR operations for existing instrument approaches at Coastal Carolina Regional Airport, New Bern, NC.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

ASO NC D New Bern, NC [Amended]

Coastal Carolina Regional Airport, NC

(Lat. 35°04′22″ N, long. 77°02′35″ W)

That airspace extending upward from the surface to and including 2,500 feet MSL within a 4.3-mile radius of Coastal Carolina Regional Airport. This Class D airspace area is effective during the specific dates and times established in advance by a Notice to Airmen. The effective date and time will thereafter be continuously published in the Chart Supplement.

* * * * *

Paragraph 6002 Class E Airspace Designated as Surface Areas.

* * * * *

ASO NC E2 New Bern, NC [Amended]

Coastal Carolina Regional Airport, NC

(Lat. 35°04′22″ N, long. 77°02′35″ W)

Within a 4.3-mile radius of Coastal Carolina Regional Airport. This Class E airspace area is effective during the specific dates and times established in advance by a Notice to Airmen. The effective date and time will thereafter be continuously published in the Chart Supplement.

* * * * *

Paragraph 6004 Class E Airspace Designated as an Extension to a Class D Surface Area.

* * * * *

ASO NC E4 New Bern, NC [Amended]

Coastal Carolina Regional Airport, NC

(Lat. 35°04′22″ N, long. 77°02′35″ W)

New Bern VOR/DME

(Lat. 35°04′23″ N, long. 77°02′42″ W)

That airspace extending upward from the surface within 2.4 miles each side of the New Bern VOR/DME 038° radial, extending from the 4.3-mile radius to 7 miles northeast of the VOR/DME.

* * * * *

Paragraph 6005 Class E Airspace.

* * * * *

ASO NC E5 New Bern, NC [Amended]

Coastal Carolina Regional Airport, NC

(Lat. 35°04′22″ N, long. 77°02′35″ W)

New Bern VOR/DME

(Lat. 35°04′23″ N, long. 77°02′42″ W)

CarolinaEast Medical Center Heliport, NC

(Lat. 35°06′55″ N, long. 77°03′51″ W)

That airspace extending upward from 700 feet above the surface within a 7-mile radius of Coastal Carolina Regional Airport and within 2.0 miles each side of the New Bern VOR/DME 210° radial, extending from the 7-mile radius of the New Bern VOR/DME to the 10-mile radius of the New Bern VOR/DME and within a 6-mile radius of CarolinaEast Medical Center Heliport.

* * * * *

Issued in College Park, Georgia, on June 30, 2025.
Andreese C. Davis,
Manager, Airspace & Procedures Team South, Eastern Service Center, Air Traffic Organization.

[FR Doc. 2025-12405 Filed 7-2-25; 8:45 am]

BILLING CODE 4910-13-P